FEDERAL RESERVE SYSTEM

Proposed Agency Information Collection Activities; Comment Request

AGENCY: Board of Governors of the Federal Reserve System.

ACTION: Notice, request for comment.

SUMMARY: The Board of Governors of the Federal Reserve System (Board) invites comment on a proposal to extend for three years, with revision, the Government-Administered, General-Use Prepaid Card Surveys.

DATES: Comments must be submitted on or before January 19, 2021.

ADDRESSES: You may submit comments, identified by FR 3063, by any of the following methods:

• Agency Website: https://www.federalreserve.gov/. Follow the instructions for submitting comments at https://www.federalreserve.gov/apps/foia/proposedregs.aspx.

• Email: regs.comments@federalreserve.gov. Include the OMB number in the subject line of the message.

• Fax: (202) 452-3819 or (202) 452-3102.

• Mail: Ann E. Misback, Secretary, Board of Governors of the Federal Reserve System, 20th Street and Constitution Avenue NW, Washington, DC 20551.

All public comments are available from the Board's website at https://www.federalreserve.gov/apps/foia/proposedregs.aspx as submitted, unless modified for technical reasons or to remove personally identifiable information at the commenter's request. Accordingly, comments will not be edited to remove any identifying or contact information. Public comments may also be viewed electronically or in paper in Room 146, 1709 New York Avenue NW, Washington, DC 20006, between 9:00 a.m. and 5:00 p.m. on weekdays. For security reasons, the Board requires that visitors make an appointment to inspect comments. You may do so by calling (202) 452-3684. Upon arrival, visitors will be required to present valid government-issued photo identification and to submit to security screening in order to inspect and photocopy comments.

Additionally, commenters may send a copy of their comments to the Office of Management and Budget (OMB) Desk Officer—Shagufta Ahmed—Office of Information and Regulatory Affairs, Office of Management and Budget, New Executive Office Building, Room 10235, 725 17th Street NW, Washington, DC 20503, or by fax to (202) 395-6974.

FOR FURTHER INFORMATION CONTACT: Federal Reserve Board Clearance Officer—Nuha Elmaghrabi—Office of the Chief Data Officer, Board of Governors of the Federal Reserve System, Washington, DC 20551, (202) 452-3829.

SUPPLEMENTARY INFORMATION: On June 15, 1984, OMB delegated to the Board authority under the PRA to approve and assign OMB control numbers to collections of information conducted or sponsored by the Board. In exercising this delegated authority, the Board is directed to take every reasonable step to solicit comment. In determining whether to approve a collection of information, the Board will consider all comments received from the public and other agencies.

A copy of the Paperwork Reduction Act (PRA) OMB submission, including the reporting form and instructions, supporting statement, and other documentation will be available at https://www.reginfo.gov/public/do/PRAMain, if approved. These documents will also be made available on the Board's public website at https://www.federalreserve.gov/apps/reportforms/review.aspx or may be requested from the agency clearance officer, whose name appears above.

Request for Comment on Information Collection Proposal

The Board invites public comment on the following information collection, which is being reviewed under authority delegated by the OMB under the PRA. Comments are invited on the following:

a. Whether the proposed collection of information is necessary for the proper performance of the Board's functions, including whether the information has practical utility;

b. The accuracy of the Board's estimate of the burden of the proposed information collection, including the validity of the methodology and assumptions used;

c. Ways to enhance the quality, utility, and clarity of the information to be collected;

d. Ways to minimize the burden of information collection on respondents, including through the use of automated collection techniques or other forms of information technology; and

e. Estimates of capital or startup costs and costs of operation, maintenance, and purchase of services to provide information.

At the end of the comment period, the comments and recommendations received will be analyzed to determine the extent to which the Board should modify the proposal.

Proposal Under OMB Delegated Authority To Extend for Three Years, With Revision, the Following Information Collection

Report title: Government-Administered, General-Use Prepaid Card Surveys.

Agency form number: FR 3063.

OMB control number: 7100-0343.

Frequency: Annually.

Respondents: Depository institutions that administer general-use prepaid cards.

Estimated number of respondents: 15.

Estimated average hours per response: 10.

Estimated annual burden hours: 150.

General description of report: The issuer survey (FR 3063a) collects data from issuers of government-administered, general-use prepaid cards including information on the pre-paid card program, the number of cards outstanding, card funding, ATM transactions, purchase transactions, fees paid by issuers to third parties, interchange fees, and cardholder fees. The issuer survey (FR 3063a) is mandatory. The government survey (FR 3063b), which is being discontinued, was originally designed to collect data from state governments, the District of Columbia, and U.S. territories (collectively “state governments”), and municipal government offices located within the United States (local government offices) that administer general-use prepaid card payment programs. It was intended that the FR 3063b survey would collect similar information from state governments and local government offices to supplement the information collected from card issuers in the FR 3063a survey on the usage of general-use prepaid cards in federal, state or local government-administered payment programs. However, the government survey was voluntary and, ultimately, did not end up being utilized to collect information from state governments or local government offices because relevant information on the use of prepaid cards was obtained from the issuer survey.

The Board uses data from the FR 3063a survey to support an annual report to Congress on the prevalence of use of general-use prepaid cards in federal, state, and local government-administered payment programs and on the interchange and cardholder fees charged with respect to such use of such cards.

Proposed revisions: The Board proposes to revise and streamline the FR 3063a reporting structure to reduce burden on respondents by deleting various questions, which are no longer necessary to support the Board's annual report. The Board believes that the proposed structure would reduce reporting burden without significantly compromising the value of the data collected. The proposed revisions to the FR 3063a would be effective for the data collection administered during the first half of 2021 for calendar year 2020 data. In addition, the Board proposes to discontinue the FR 3063b.

Legal authorization and confidentiality: The issuer survey is authorized by subsection 920(a)(7) of the Electronic Fund Transfer Act, 15 U.S.C. 1693o-2(a)(7), which was added by section 1075(a) of the Dodd-Frank Wall Street Reform and Consumer Protection Act. This subsection requires the Board to submit an annual report to Congress on the prevalence of the use of general-use prepaid cards in federal, state or local government-administered payment programs and the interchange transaction fees and card-holder fees charged with respect to the use of such general-use prepaid cards (15 U.S.C. 1693o-2(a)(7)(D)). It also provides the Board with authority to require issuers to provide information to enable the Board to carry out the provisions of the subsection (15 U.S.C. 1693o-2(a)(3)(B)). The obligation of issuers to respond to the issuer survey is mandatory. The Board generally regards the information collected from each individual issuer on the FR 3063a survey as confidential commercial and financial information, which is protected by exemption 4 of the Freedom of Information Act (5 U.S.C. 552(b)(4)). The Board, however, may publicly release aggregate or summary information in a way that does not reveal the individual issuer.

Board of Governors of the Federal Reserve System, November 16, 2020.
Michele Taylor Fennell,
Deputy Associate Secretary of the Board.

[FR Doc. 2020-25582 Filed 11-18-20; 8:45 am]

BILLING CODE 6210-01-P